DEPARTMENT OF DEFENSE

Defense Acquisition Regulations System

[Docket Number DARS-2017-0004; OMB Control Number 0704-0446]

Submission for OMB Review; Comment Request

AGENCY: Defense Acquisition Regulations System, DoD.

ACTION: Notice.

SUMMARY: The Defense Acquisition Regulations System has submitted to OMB for clearance, the following proposal for collection of information under the provisions of the Paperwork Reduction Act.

DATES: Consideration will be given to all comments received by October 27, 2017.

SUPPLEMENTARY INFORMATION:

Title, Associated Form, and OMB Number: Defense Federal Acquisition Regulation Supplement (DFARS), Evaluation Factor for Use of Members of the Armed Forces Selected Reserve; OMB Control Number 0704-0446.

Type of Request: Revision of a currently approved collection.

Affected Public: Businesses or other for-profit and not-for profit institutions.

Respondent's Obligation: Required to obtain or retain benefits.

Reporting Frequency: On occasion.

Number of Respondents: 13.

Responses per Respondent: 1.

Annual Responses: 13.

Average Burden per Response: Approximately 20 hours.

Annual Burden Hours: 620.

Needs and Uses: DFARS 215.370-3 prescribes the use of the provision at DFARS 252.215-7005, Evaluation Factor for Employing or Subcontracting with Members of the Selected Reserve, in solicitations that include an evaluation factor to provide a preference for offerors that intend to perform the contract using employees or individual subcontractors who are members of the Selected Reserve. The documentation provided by an offeror with their proposal will be used by contracting officers to validate that Selected Reserve members will be utilized in the performance of the contract. This information collection implements a requirement of section 819 of the National Defense Authorization Act for Fiscal Year 2006 (Pub. L. 109-163).

OMB Desk Officer: Ms. Jasmeet Seehra.

Comments and recommendations on the proposed information collection should be sent to Ms. Jasmeet Seehra, DoD Desk Officer, at Oira_submission@omb.eop.gov. Please identify the proposed information collection by DoD Desk Officer and the Docket ID number and title of the information collection

You may also submit comments, identified by docket number and title, by the following method:

Federal eRulemaking Portal: http://www.regulations.gov. Follow the instructions for submitting comments.

DoD Clearance Officer: Mr. Frederick C. Licari.

Written requests for copies of the information collection proposal should be sent to Mr. Licari at: WHS/ESD Directives Division, 4800 Mark Center Drive, 2nd Floor, East Tower, Suite 03F09, Alexandria, VA 22350-3100.

Jennifer L. Hawes,
Editor, Defense Acquisition Regulations System.

[FR Doc. 2017-20638 Filed 9-26-17; 8:45 am]

BILLING CODE 5001-06-P